LEGAL SERVICES CORPORATION

Sunshine Act Meeting: Finance Committee. Postponed

AGENCY: Legal Services Corporation.

ACTION: Postponement notice.

SUMMARY: On August 15, 2017, the Legal Services Corporation (LSC) published a notice in the Federal Register (82 FR 38712) titled “Finance Committee Telephonic Meeting on August 21, 2017 at 12:00 p.m., EDT.” The meeting has been postponed, and the agenda will be covered at a later date. This document announces the postponement of the meeting.

CHANGES IN THE MEETING: Postponed.

DATES: This postponement is effective August 18, 2017.

FOR FURTHER INFORMATION CONTACT: Katherine Ward, Executive Assistant to the Vice President for Legal Affairs and General Counsel, Legal Services Corporation, 3333 K Street NW., Washington, DC 20007; (202) 295-1500; kward@lsc.gov.

Dated: August 18, 2017.
Katherine Ward,
Executive Assistant to the Vice President for Legal Affairs and General Counsel.

[FR Doc. 2017-17916 Filed 8-21-17; 11:15 am]

BILLING CODE 7050-01-P